NATIONAL AERONAUTICS AND SPACE ADMINISTRATION

[Notice 02-135]

Government-Owned Inventions, Available for Licensing

ACTION: Notice of availability of inventions for licensing.

SUMMARY: The invention listed below is assigned to the National Aeronautics and Space Administration, have been filed in the United States Patent and Trademark Office, and are available for licensing.

DATES: November 12, 2002.

FOR FURTHER INFORMATION CONTACT: John Kusmiss, Patent Counsel, NASA Management Office—JPL, 4800 Oak Grove Drive, Mail Stop 180-801, Pasadena, CA 91109; telephone (818) 354-7770.

NASA Case No. NPO-21136-1: An Improved Disc Player, Read Head Unit And Method Of Reading Data From An Optical Disc;

NASA Case No. NPO-30323-1: Very High Efficiency, Miniaturized, Long Life Alpha Particle Power Source, Using Diamond Devices, For Extreme Space Environments.

Dated: November 4, 2002.
Robert M. Stephens,
Deputy General Counsel.

[FR Doc. 02-28563 Filed 11-8-02; 8:45 am]

BILLING CODE 7510-01-P